DEPARTMENT OF HEALTH AND HUMAN SERVICES

Administration for Children and Families

Submission for Office of Management and Budget Review; Children's Bureau Regional Partnership Grants Final Report Outline (NEW)

AGENCY: Children's Bureau, Administration on Children, Youth and Families, Administration for Children and Families, U.S. Department of Health and Human Services.

ACTION: Request for public comments.

SUMMARY: The Children's Bureau (CB) is requesting a new collection effort for the Regional Partnership Grant (RPG) program, for the use of a Regional Partnership Grants Final Report Outline to collect cumulative project information. Information from the report will aid grant recipients in meeting grant management requirements as well as to support CB in gathering information on the projects to better monitor the project's use of funds, implementation successes and challenges and program and service effectiveness.

DATES: Comments due October 11, 2024. The Office of Management and Budget (OMB) must make a decision about the collection of information between 30 and 60 days after publication of this document in the Federal Register Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: Information from the proposed collection will aid grant recipients in meeting grant management requirements as well as support CB in gathering information on the projects to monitor the project's use of funds, implementation successes and challenges, and program and service effectiveness. The Regional Partnership Grants Final Report Outline will provide a clear and consistent way for CB to gather information on the projects to better monitor the project's use of funds, implementation successes and challenges and program and service effectiveness.

The Regional Partnership Grants program is in its 7th Round of funding, providing a consistent clear template for the project's final reports will assist CB to ensure appropriate program monitoring and to build the evidence of effective programing and practice for RPG sites and other CB efforts to support families impacted by substance use.

Respondents: Regional Partnership Grants recipients. There are currently two active cohorts (Round 6 and Round 7) of RPG recipients. There are 8 grant recipients in Round 6 and 18 grant recipients in Round 7. Regional Partnership Grants recipients, include state agencies, a judicial court state agency, and community-based organizations (mental health and health care community service providers).

Total Burden Estimates

The Round 6 cohort will complete projects by September 2024, with a Final Report due in fiscal year (FY)25. The Round 7 cohort will continue work through September 2027, with a Final Report due in FY28. There are 8 grant recipients in Round 6 and 18 grant recipients in Round 7. This request includes burden estimates for both cohorts. If needed, the Administration for Children and Families will request an extension to allow for FY28 reporting in 2027. Estimated burden for Round 6 grant recipients is 480 hours in FY 2025. Estimated burden for Round 7 grant recipients is 1080 hours in FY 2028.

Instrument | Total number of respondents | Total number of responses per respondent | Average burden hours per response | Total burden hours
Regional Partnership Grants Final Report Outline | RPG Round 6 (FY25 Reporting) | 1 | 60 | 480
| RPG Round 7 (FY28 Reporting) | 1 | 60 | 1,080
Estimated total burden for both cohorts (FY25-FY28): |  |  | 1,560

Authority: Title IV, part B, subpart 2-Promoting Safe and Stable Families, Section 437(f) of the Social Security Act (42 U.S.C. 629g(f)).

Mary C. Jones,
ACF/OPRE Certifying Officer.

[FR Doc. 2024-20425 Filed 9-10-24; 8:45 am]

BILLING CODE 4184-01-P